DEPARTMENT OF COMMERCE

National Oceanic and Atmospheric Administration

[I.D. 022207B]

National Standard 1 Guidelines; Scoping Process

AGENCY: National Marine Fisheries Service, National Oceanic and Atmospheric Administration (NOAA), Commerce.

ACTION: Notice of scoping meetings; extension of scoping period.

SUMMARY: NMFS announces several scoping meetings for the environmental impact statement for implementation of annual catch limit (ACL) and accountability measure (AM) requirements of the Magnuson-Stevens Fishery Conservation and Management Reauthorization Act of 2006 (MSRA). Such guidance would be added to the National Standard 1 Guidelines. NMFS also extends the ending date of the scoping period for this action from April 2, 2007, through April 17, 2007.

DATES: Dates and locations of scoping meetings are listed below under ADDRESSES. Written comments must be received by April 17, 2007.

ADDRESSES: Scoping meetings will be held at the following locations:

South Atlantic Fishery Management Council Meeting, March 6, 2007, 6:30 p.m. to 7:30 p.m. at the Jekyll Island Club Hotel, Jekyll Island, GA 31527.

National Marine Fisheries Service Headquarters, Silver Spring, March 9, 2007, 9 a.m. to 3 p.m., Silver Spring Metro Center #3 Building, Room 4527, Silver Spring, MD 20910.

Western Pacific Fishery Management Council Meeting, March 14, 2007, 7:30 p.m. to 9 p.m. at the Ala Moana Hotel, Honolulu, HI 96814.

Caribbean Fishery Management Council Meeting, March 20, 2007, 6 p.m. to 7 p.m. at the Ponce Hilton Hotel, Ponce, PR 00716.

Gulf of Mexico Fishery Management Council Meeting, March 29, 2007, 6:30 p.m. to 7:30 p.m. at the Embassy Suites Hotel, Destin, FL 32550.

NMFS may hold additional scoping meetings during the comment period that ends April 17, 2007.

You may submit comments on issues and alternatives, by any of the following methods:

• E-mail: annual.catchlimitDEIS@noaa.gov. Include “Scoping comments on annual catch limit DEIS” in subject line of the message.

• Fax: 301-713-1193

• Mail: Mark Millikin; National Marine Fisheries Service, NOAA; 1315 East-West Highway; Silver Spring, MD 20910.

FOR FURTHER INFORMATION CONTACT: Mark Millikin; National Marine Fisheries Service, 301-713-2341.

SUPPLEMENTARY INFORMATION:

Electronic Access

This Federal Register document is available on the Government Printing Office's website at: www.gpoaccess.gov/fr/index.

Background

The MSRA, signed into law by President Bush on January 12, 2007, set forth new requirements related to overfishing, including new ACL and AM provisions for federally managed fisheries in the U.S. exclusive economic zone. NMFS initiated action through a notice of intent (NOI) to develop guidance related to these new provisions, specifically requirements set forth under sections 103(b)(1) and (c)(3), 104(a)(10), (b), and (c) of the MSRA. NMFS intends to revise the National Standard 1 (NS1) Guidelines, 50 CFR 600.310, through a proposed and final rule to incorporate guidance of these MSRA sections before the end of 2007. NMFS is seeking input on ACLs and AMs and related matters in the NS1 Guidelines. More background related to this action is contained in the NOI published on February 14, 2007 (72 FR 7016), and is not repeated here.

If NMFS is able to schedule additional scoping meetings with Regional Fishery Management Councils, it will issue additional notices in the Federal Register.

Special Accommodations

The public meetings listed in this notice will be accessible to people with physical disabilities. Requests for sign language interpretation and other auxiliary aids should be directed to Jennifer Ise (301-713-2341), at least 5 days before the scheduled session.

Dated: February 23, 2007.
Alan D. Risenhoover,
Director, Office of Sustainable Fisheries, National Marine Fisheries Service.

[FR Doc. E7-3507 Filed 2-27-07; 8:45 am]

BILLING CODE 3510-22-S